DEPARTMENT OF TRANSPORTATION

Federal Highway Administration

Environmental Impact Statement, San Bernardino, CA

AGENCY: Federal Highway Administration (FHWA), DOT.

ACTION: Notice of withdrawal.

SUMMARY: The FHWA is providing this notice to advise the public that the California Department of Transportation (Caltrans) is withdrawing the Notice of Intent (NOI) published in the Federal Register (Vol. 71, No. 128) on Wednesday, July 5, 2006. That notice addressed the intent to prepare an Environmental Impact Statement (EIS) for the proposed U.S. 395 Realignment Freeway/Expressway project on U.S. 395 from Interstate 15 (I-15/U.S. 395 interchange) to Farmington Road. The original NOI was published by FHWA. Pursuant to 23 U.S.C. 327, environmental responsibilities for this project have been assigned to Caltrans.

FOR FURTHER INFORMATION CONTACT: Boniface Udotor, Senior Environmental Planner, California Department of Transportation, 464 West 4th Street, 6th Floor, MS823, San Bernardino, California 92401-1400; telephone (909) 388-1387.

SUPPLEMENTARY INFORMATION: Caltrans, District 8, will stop further studies of this proposed project to realign U.S. 395. The project is currently undergoing re-scoping for project modifications. The corridor, which was to be evaluated, was located on either side of existing U.S. 395 and to the west of existing U.S. 395. The proposed 45-mile project was to include studies within the communities of Oak Hills, Hesperia, Victorville, Adelanto and unincorporated areas of San Bernardino County.

(Catalog of Federal Domestic Assistance: Program Number 20.205, Highway Research Planning and Construction. The regulations implementing Executive Order 12372 regarding inter-governmental consultation on federal programs and activities apply to this program.)

Issued on: October 24, 2008.
Nancy E. Bobb,
Director, State Programs.

[FR Doc. E8-25889 Filed 10-29-08; 8:45 am]

BILLING CODE 4910-22-P